DEPARTMENT OF TRANSPORTATION

Office of the Secretary

Notice of Applications for Certificates of Public Convenience and Necessity and Foreign Air Carrier Permits Filed Under Subpart B (Formerly Subpart Q) During the Week Ending July 2, 2004

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2004-18468.

Date Filed: June 28, 2004.

Due Date for Answers, Conforming Applications, or Motion to Modify Scope: July 19, 2004.

Description: Application of Arrow Air, Inc., requesting a certificate of Public Convenience and Necessity to engage in scheduled foreign air transportation of property and mail between any point or points in the U.S. via intermediate points to a point or points in the People's Republic of China and to points beyond with full traffic rights. Arrow requests designation as the third U.S.-China scheduled all-cargo airline and allocation of seven (7) weekly frequencies commencing August 1, 2004 and an additional six (6) weekly frequencies commencing March 25, 2005.

Docket Number: OST-2004-18468.

Date Filed: June 28, 2004.

Due Date for Answers, Conforming Applications, or Motion to Modify Scope: July 19, 2004.

Description: Application of Evergreen International Airlines, Inc., requesting a certificate of public convenience and necessity authorizing Evergreen to engage in scheduled foreign air transportation of property and mail between a point or points in the U.S., via intermediate points, and the co-terminal points of Beijing and Shanghai, China. Evergreen also requests authority to integrate this authority with its existing Certificate and exemption authority and to commingle traffic consistent with applicable aviation agreements. Further, Evergreen requests the new all-cargo designation to China available August 1, 2004 along with an allocation of seven weekly round trip frequencies available beginning on August 1, 2004.

Docket Number: OST-2004-18468.

Date Filed: June 28, 2004.

Due Date for Answers, Conforming Applications, or Motion to Modify Scope: July 19, 2004.

Description: Application of Gemini Air Cargo, Inc., requesting a certificate of public convenience and necessity to engage in scheduled foreign air transportation of property and mail from points in the U.S.; via intermediate points; to points in the People's Republic of China open to scheduled international operations; and beyond. Gemini Air Cargo seeks designation as the third scheduled all-cargo carrier to China and allocation of six (6) all-cargo frequencies in 2004 and six (6) additional frequencies in March 2005.

Docket Number: OST-2004-18468.

Date Filed: June 28, 2004.

Due Date for Answers, Conforming Applications, or Motion to Modify Scope: July 19, 2004.

Description: Application of Polar Air Cargo, Inc., requesting: (1) issuance of a certificate of public convenience and necessity authorizing it to engage in scheduled foreign air transportation of property and mail between a point or points in the U.S. and a point or points in the People's Republic of China, via intermediate points, and beyond China to any point or points; (2) designation as the additional U.S. flag all cargo carrier permitted by the Protocol effective August 1, 2004; (3) allocation of six (6) of the 21 weekly frequencies that become available August 1, 2004; and (4) the additional allocation of three (3) of the 18 weekly frequencies that become available March 25, 2005.

Docket Number: OST-2004-18574.

Date Filed: July 2, 2004.

Due Date for Answers, Conforming Applications, or Motion to Modify Scope: July 23, 2004.

Description: Application of Sunworld International Airlines, Inc., requesting to resume operations, and requests that the 45-day advance filing requirement be waived in light of the difficulty and expense of maintaining an aircraft and paying salaries and rent without being able to conduct revenue operations.

Andrea M. Jenkins,
Program Manager, Docket Operations, Federal Register Liaison.

[FR Doc. 04-16721 Filed 7-21-04; 8:45 am]

BILLING CODE 4910-62-P